SECURITIES AND EXCHANGE COMMISSION

Issuer Delisting; Notice of Application To Withdraw From Listing and Registration on the American Stock Exchange LLC (Rampart Capital Corporation, Common Stock, $.01 par value) File No. 1-15277

October 24, 2003.

Rampart Capital Corporation, a Texas corporation (“Issuer”), has filed an application with the Securities and Exchange Commission (“Commission”), pursuant to section 12(d) of the Securities Exchange Act of 1934 (“Act”) ¹ and Rule 12d2-2(d) thereunder,² to withdraw its Common Stock, $.01 par value (“Security”), from listing and registration on the American Stock Exchange LLC (“Amex” or “Exchange”).

¹ 15 U.S.C. 78l(d).

² 17 CFR 240.12d2-2(d).

The Issuer stated in its application that it has met the requirements of Amex Rule 18 by complying with all applicable laws in the State of Texas, in which it is incorporated, and with the Amex's rules governing an issuer's voluntary withdrawal of a security from listing and registration.

The Issuer states that it is taking such action for the following reasons: the Issuer intends to amend its articles of incorporation to effect a 1-for-100,000 reverse stock split of its Security and cash-out fractional shares at $3.50 per pre-split share. A meeting of the Issuer's shareholders will be held on November 5, 2003 to vote on the amendment to its articles of incorporation. Shareholders holding sufficient shares to approve the amendment have already indicated that they intend to vote in favor of the amendment. When approved, the amendment will be filed with the Secretary of State of Texas and be effective at 12:01 a.m. on November 6, 2003. As a result of the reverse split and subsequent cashing-out of fractional shares, the Issuer will only have two record and beneficial shareholders, who are directors and officers of the Issuer.

The Issuer's application relates solely to the withdrawal of the Securities from listing on the Amex and from registration under section 12(b) of the Act ³ shall not affect its obligation to be registered under section 12(g) of the Act.⁴

³ 15 U.S.C. 78l(b).

⁴ 15 U.S.C. 78l(g).

Any interested person may, on or before November 14, 2003, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 03-27342 Filed 10-29-03; 8:45 am]

BILLING CODE 8010-01-P